DEPARTMENT OF HOMELAND SECURITY

Coast Guard

33 CFR Part 117

[Docket No. USCG-2012-0124]

Drawbridge Operation Regulation; New Jersey Intracoastal Waterway (NJICW), Point Pleasant Canal, NJ

AGENCY: Coast Guard, DHS.

ACTION: Notice of temporary deviation from regulations.

SUMMARY: The Commander, Fifth Coast Guard District, has issued a temporary deviation from the regulations governing the operation of the Route 88/Veterans Memorial Bridge across Point Pleasant Canal, NJICW mile 3.0, at Point Pleasant, NJ. This deviation allows the bridge to remain closed-to-navigation in order to facilitate barrier gate replacement and extensive electrical remedial work on the bridge.

DATES: This deviation is effective from 7 a.m. on March 19, 2012 through 5 p.m. on March 23, 2012.

ADDRESSES: Documents mentioned in this preamble as being available in the docket USCG-2012-0124 and are available online by going to http://www.regulations.gov, inserting USCG-2012-0124 in the “Keyword” box and then clicking “Search”. This material is also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. Jim Rousseau, Bridge Administration Branch, Fifth Coast Guard District; telephone 757-398-6557, email James.L.Rousseau2@uscg.mil. If you have questions on viewing the docket, call Renee V. Wright, Program Manager, Docket Operations, telephone 202-366-9826.

SUPPLEMENTARY INFORMATION: The New Jersey Department of Transportation (NJDOT) owns and operates the vertical-lift span of the Route 88/Veterans Memorial Bridge across Point Pleasant Canal along the NJICW, in Point Pleasant, NJ. The bridge has a vertical clearance in the closed position to vessels of 10 feet, above mean high water. The current operating regulations are outlined at 33 CFR 117.5, which require the bridge to open when a request or signal to open is given.

The contractor, Agate Construction on behalf of NJDOT, has requested a temporary deviation to the existing regulations for the Route 88/Veterans Memorial Bridge to facilitate necessary repairs. The repairs consist of the replacement of bridge traffic control devices (barrier gates) and extensive electrical remedial work. Under this deviation, the vertical-lift span of the drawbridge will be maintained in the closed-to-navigation position from 7 a.m. on March 19, 2012, through 5 p.m. on March 23, 2012.

Bridge opening data, supplied by NJDOT and reviewed by the Coast Guard, revealed that the bridge opened for vessels 1 and 0 times during the months of March 2010 and 2011 respectively.

The Coast Guard will also inform the users of the waterway through our Local and Broadcast Notices to Mariners of the closure period so that vessels can arrange their transits to minimize any impact caused by the temporary deviation.

Vessels that can pass under the bridge without a bridge opening may continue to do so at anytime. The Atlantic Ocean is an alternate route for vessels with mast heights greater than 10 feet. In the event of an emergency, the drawbridge will not be able to open for vessels.

In accordance with 33 CFR 117.35(e), the drawbridge must return to its regular operating schedule immediately at the end of the designated time period. This deviation from the operating regulation is authorized under 33 CFR 117.35.

Dated: February 22, 2012.
Waverly W. Gregory, Jr.,
Bridge Program Manager, Fifth Coast Guard District.

[FR Doc. 2012-5978 Filed 3-12-12; 8:45 am]

BILLING CODE 9110-04-P